DEPARTMENT OF THE INTERIOR

Bureau of Land Management

[NV-056-5853-EU; N-81870; 7-08807]

Notice of Realty Action: Non-Competitive Sale in the Las Vegas Valley, NV

AGENCY: Bureau of Land Management, Interior.

ACTION: Notice of Realty Action.

SUMMARY: The Bureau of Land Management (BLM) proposes to sell a 5-acre parcel of public land in the southwest portion of the Las Vegas Valley, Nevada to Clark County for affordable housing purposes. BLM proposes that the parcel be sold by direct sale to Clark County at less than the appraised fair market value (FMV), pursuant to Section 7(b) of the Southern Nevada Public Land Management Act (Pub. L. 105-263, SNPLMA) and the Nevada Guidance on Policy and Procedures for Affordable Housing Disposals (Nevada Guidance) approved on August 8, 2006. BLM will sell the parcel under direct sale procedures in accordance with the applicable provisions of the Federal Land Policy and Management Act of 1976, 43 U.S.C. 1701 et seq. (FLPMA), and the BLM land sale and mineral conveyance regulations at 43 CFR parts 2710 and 2720.

DATES: On or before January 26, 2007, interested parties may submit comments concerning the proposed sale, including the environmental assessment (EA), to the BLM Field Manager, Las Vegas Field Office, at the address stated below.

ADDRESSES: Las Vegas Field Office, Bureau of Land Management, 4701 N. Torrey Pines Drive, Las Vegas, NV 89130.

FOR FURTHER INFORMATION CONTACT: Jacqueline Gratton, Acting Supervisory Realty Specialist, at (702) 515-5054.

SUPPLEMENTARY INFORMATION: Pursuant to a request by Clark County, Nevada, BLM proposes to sell a 5-acre parcel of public land located in the southwest portion of the Las Vegas Metropolitan Area and further described below. The parcel is bound on three sides by developed residential property. The fourth side is bound by a developed street. The subject parcel would be sold using the direct sale procedures, and under such terms, covenants, or conditions as determined necessary for affordable housing purposes by the BLM Authorized Officer in accordance with Section 7(b) of SNPLMA, and the Nevada Guidance. Pursuant to Section 7(b) of SNPLMA, BLM, in consultation with the Department of Housing and Urban Development (HUD), may make lands available for affordable housing purposes, in the State of Nevada at less than the appraised FMV. The amount discounted from FMV is calculated according to the Nevada Guidance.

Under SNPLMA Section 7(b), housing is “affordable housing” if the housing serves low-income families as defined in Section 104 of the Cranston-Gonzales National Affordable Housing Act ([Cranston-Gonzales] 42 U.S.C 12704). In the Cranston-Gonzales Act, the term “low-income families” means families whose incomes do not exceed 80 percent of the median income for the area as determined by HUD.

The appraised FMV for the 5-acre parcel is $3,000,000. Under the Nevada Guidance, and after consultation with HUD, the BLM Authorized Officer has determined that the appropriate value for the property is $198,000.00, so long as the property is used for affordable housing purposes.

Under the Nevada Guidance, the preferred method of sale under SNPLMA Section 7(b) is direct sales (as opposed to competitive or modified competitive sales). In addition, the direct sale method is supported by 43 CFR 2711.3-3(1), which authorizes direct sales when, “A tract is identified for transfer to State or local government,” and 43 CFR 2711.3-3(2), which authorizes direct sales when, “A tract is identified for sale that is an integral part of a project or public importance and speculative bidding would jeopardize a timely completion and economic viability of the project.” Since SNPLMA was passed in 1998, Clark County has invested considerable time and substantial resources in finding eligible projects for affordable housing purposes. This project under SNPLMA Section 7(b) is called the “Harmon Pines Senior Apartments.” If successfully sold, this project would begin to meet the tremendous demand for affordable housing recognized by the State of Nevada and the local governmental entities in the Las Vegas Valley. Clark County's submission of the sale nomination to the BLM and HUD includes a comprehensive plan for assessment and evaluation of the need for and feasibility of this project. HUD has recommended approval of this project in accordance with the SNPLMA, the Nevada Guidance, and HUD's Policy and Procedures for Affordable Housing Disposals Section 4(C-H).

Therefore, the following described land in Clark County, Nevada, is proposed to be sold to Clark County for affordable housing purposes under Section 7(b) of SNPLMA:

Land Proposed for Sale

Mount Diablo Meridian, Nevada

T. 21 S., R. 60 E.,

Sec. 24, E½NW¼SW¼NW1/4.

Clark County Tax Parcel No. 163-24-201-005.

The land described above contains 5.0 acres, more or less.

This parcel is within the disposal boundary adopted by Congress in SNPLMA and is also in conformance with the BLM Las Vegas Resource Management Plan, approved on October 5, 1998.

The land is not required for any Federal purpose. The sale will be made subject to the applicable provisions of FLPMA and the regulations of the Secretary of the Interior.

The patent shall include the following numbered terms, covenants, and conditions:

1. Pursuant to Section 7(b) of SNPLMA, the term “affordable housing” as used in this Patent, means housing that serves low-income families as defined in Section 104 of the Cranston-Gonzales National Affordable Housing Act (42 U.S.C. 12704). For purposes of this Patent, the term “affordable housing purpose” means for the purpose of affordable housing projects, which commit 50 percent or more of living space to affordable housing and which are used for no purpose other than residential use.

2. Clark County hereby covenants and binds all successors-in-interests to use the land conveyed only for affordable housing purposes for a period of fifteen (15) years, which will commence upon the issuance of a certificate of occupancy or its equivalent by the HUD. This affordable housing covenant shall be deemed appurtenant to and to run with the ownership of the land conveyed. It shall be binding upon Clark County, its successors and assigns, during the time each owns the land.

3. If, at the end of five (5) years from the date of the sale Patent, any land conveyed through this proposed sale is not being used for affordable housing purposes, at the option of the United States, those lands not so used shall revert to the United States, or, in the alternative, the United States may require payment by the owner to the United States of the then fair market value.

4. All land conveyed shall be used only for affordable housing purposes during the period of affordability. If at any time all or any portion of the land conveyed is used for any purpose other than affordable housing purposes by Clark County, or any successor-in-interest, at the option of the United States, those lands not used for affordable housing purposes shall revert to the United States, or, in the alternative, the United States may at this time require payment by the owner to the United States of the then fair market value or institute a proceeding in a court of competent jurisdiction to enforce the covenant set forth above to use the land conveyed only for affordable housing purposes.

5. This use restriction and the reversionary interest may be enforced by the BLM or the HUD, or their successors-in-interest, as deemed appropriate by agreement of these two agencies at the time of enforcement.

6. Clark County, upon issuance and acceptance of the Patent, shall simultaneously transfer by deed the land conveyed by the Patent to its successor-in-interest.

When patented, title to the land will continue to be subject to the following numbered reservations to the United States:

1. A right-of-way for ditches or canals constructed by the authority of the United States, Act of August 30, 1890 (26 Stat. 391, 43 U.S.C. 945).

2. All discretionary leasable and saleable mineral deposits in the land so patented, and to it, its permittees, licensees, and lessees, the right to prospect for, mine, and remove the minerals owned by the United States under applicable law and such regulations as the Secretary of the Interior (Secretary) may prescribe, including all necessary access and exit rights.

3. A reversionary interest as further defined in the above terms, covenants and conditions.

When patented, title to the land will be subject to:

1. Valid existing rights of record, including, but not limited to those documented on the BLM public land records at the time of sale, and,

2. By accepting the patent, Clark County, subject to the limitations of law and to the extent allowed by law, shall be responsible for the acts or omissions of its officers, directors and employees in connection with the use or occupancy of the patented real property. Successors-in-interests of the patented real property, except Clark County, shall indemnify, defend, and hold the United States and Clark County harmless from any costs, damages, claims, causes of action, penalties, fines, liabilities, and judgments of any kind or nature arising from the past, present, and future acts or omissions of the successors-in-interest, excluding Clark County, or its employees, agents, contractors, or lessees, or any third-party, arising out of or in connection with the successor-in-interests, excluding Clark County, use, occupancy, or operations on the patented real property. This indemnification and hold harmless agreement includes, but is not limited to, acts and omissions of the successor-in-interests, excluding Clark County, and its employees, agents, contractors, or lessees, or any third party, arising out of or in connection with the use and/or occupancy of the patented real property which has already resulted or does hereafter result in: (1) Violations of Federal, State, and local laws and regulations that are now or may in the future become, applicable to the real property; (2) Judgments, claims or demands of any kind assessed against the United States or Clark County; (3) Costs, expenses, or damages of any kind incurred by the United States or Clark County; (4) Other releases or threatened releases of solid or hazardous waste(s) and/or hazardous substances(s), as defined by Federal or State environmental laws, off, on, into or under land, property and other interests of the United States or Clark County; (5) Other activities by which solids or hazardous substances or wastes, as defined by Federal and State environmental laws are generated, released, stored, used or otherwise disposed of on the patented real property, and any cleanup response, remedial action or other actions related in any manner to said solid or hazardous substances or wastes; or (6) Natural resource damages as defined by Federal and State law. This covenant shall be construed as running with the parcels of land patented or otherwise conveyed by the United States, and may be enforced against successors-in-interest, excluding Clark County, by the United States or Clark County in a court of competent jurisdiction.

No warranty of any kind, express or implied is given or will be given by the United States as to the title, physical condition or potential uses of the land proposed for sale. However, to the extent required by law, such land is subject to the requirements of Section 120(h) of the Comprehensive Environmental Response Compensation and Liability Act (CERCLA), as amended (42 U.S.C. 9620(h)).

Publication of this notice in the Federal Register temporarily segregates the above described land from appropriation under the public land laws, including the mining laws. The segregation effect of this notice will terminate in the future as specified in 43 CFR 2711.1-3(c)). The above described land was previously segregated from mineral entry under BLM case file number N-66364, with record notation as of October 19, 1998. This previous segregation will terminate upon publication of this notice in the Federal Register.

Detailed information concerning the proposed sale, including an environmental studies and documents, approved appraisal report and supporting documents, is available for review at the BLM Las Vegas Field Office at the address above. Interested parties may submit written comments regarding the sale, including the EA, to the address above. No facsimiles, e-mails, or telephone calls will be considered as validly submitted comments. The Field Manager, BLM, Las Vegas Field Office, will review the comments of all interested parties concerning the sale. To be considered, comments must be received at the BLM Las Vegas Field Office on or before the date stated above in this notice for that purpose. Comments received during this process, including respondent's name, address, and other contact information will be available for public review. Individual respondents may request confidentiality. If you wish to request that BLM consider withholding your name, address, and other contact information from public review or disclosure under the Freedom of Information Act, you must state this prominently at the beginning of your comment. The BLM will honor requests for confidentiality on a case-by-case basis to the extent allowed by law. The BLM will make available for public review, in their entirety, all comments submitted by businesses or organizations, including comments by individuals in their capacity as an official or representative of a business or organization. Any adverse comments will be reviewed by the BLM, Nevada State Director who may sustain, vacate, or modify this realty action.

In the absence of any adverse comments, the decision will become effective on February 12, 2007. The lands will not be offered for sale until after the decision becomes effective.

(Authority: 43 CFR 2711.1-2(a)).

Dated: November 24, 2006.
Sharon DiPinto,
Assistant Field Manager, Division of Lands, Las Vegas, NV.

[FR Doc. E6-21041 Filed 12-11-06; 8:45 am]

BILLING CODE 4310-HC-P